NATIONAL LABOR RELATIONS BOARD

Privacy Act of 1974; System of Records

AGENCY: National Labor Relations Board (NLRB).

ACTION: Notice of a new system of records.

SUMMARY: Pursuant to the provisions of the Privacy Act of 1974, the National Labor Relations Board (“NLRB” or “Agency”) publishes this notice of a new system of records called “NLRB Freedom of Information Act Records (NLRB-37).” The Agency, elsewhere in the Federal Register, is also publishing a notice that it is rescinding two systems of records: NLRB FOIAonline (NLRB-35); and Freedom of Information Act Tracking System (FTS) and Associated Agency Files (NLRB-32). All persons are advised that, in the absence of submitted comments considered by the Agency as warranting modification of the notice as here proposed, it is the intention of the Agency that the notice shall be effective upon expiration of the comment period without further action.

DATES: Written comments on the system's routine uses must be submitted on or before April 25, 2025. The routine uses in this action will become effective on April 25, 2025 unless written comments are received that require a contrary determination.

ADDRESSES: All persons who desire to submit written comments for consideration by the Agency in connection with this proposed notice of the amended system of records shall mail them to the Agency's Senior Agency Official for Privacy, National Labor Relations Board, 1015 Half Street SE, Washington, DC 20570-0001, or submit them electronically to privacy@nlrb.gov. Comments may also be submitted electronically through http://www.regulations.gov, which contains a copy of this proposed notice and any submitted comments.

FOR FURTHER INFORMATION CONTACT: Ibrahim M. Ibrahim, Privacy and Information Security Specialist, Office of the Chief Information Officer, National Labor Relations Board, 1015 Half Street SE, Washington, DC 20570-0001, (202) 273-3733, or at privacy@nlrb.gov.

SUPPLEMENTARY INFORMATION: The NLRB Freedom of Information Act Records (NLRB-37) system contains electronic information of each request and administrative appeal made to the Agency pursuant to the Freedom of Information Act (FOIA), as well as correspondence related to the requests and appeals, including names, addresses, telephone numbers, and other information about a requester.

The NLRB Freedom of Information Act Records (NLRB-37) system enables the NLRB to electronically receive, process, track, and store requests from the public for federal records; store responsive records; post responsive records to a website; collect data for annual reporting requirements to the Department of Justice; and manage internal FOIA administration activities. In addition, the NLRB Freedom of Information Act Records (NLRB-37) system allows the public to submit and track FOIA requests and appeals; to access requests and responsive records online; and to obtain the status of requests filed with the NLRB.

The name of a third-party FOIA requester is publicly available and searchable by the public. However, any other personally identifiable information provided by a requester during the process of completing the request form or creating an online account (e.g., home addresses, email address, and contact information) will not be posted to the website, nor will it be searchable by the public.

Personally identifiable information determined to be publicly releasable and/or contained in documents released to the public under FOIA will be publicly available and searchable by the public when posted.

Individuals authorized to access the Agency FOIA system are the Agency's Chief FOIA Officer; FOIA Officer; FOIA Branch management; and FOIA processors. Members of the public can access responses to certain third-party requests in an electronic reading room, and first-party requesters can access responses to their own requests in a secured portal.

Prior to the use of NLRB-37, the Agency used NLRB FOIAonline (NLRB-35) (84 FR 67967 (Dec. 12, 2019)) and Freedom of Information Act Tracking System (FTS) and Associated Agency Files (NLRB-32) (71 FR 74941 (Dec. 13, 2006)) as FOIA processing systems. The Agency, elsewhere in the Federal Register, is publishing a RESCINDMENT OF SYSTEMS OF RECORDS NOTICES for those two notices.

SYSTEM NAME AND NUMBER:

NLRB Freedom of Information Act Records (NLRB-37).

SECURITY CLASSIFICATION:

Unclassified and Controlled Unclassified Information.

SYSTEM LOCATION:

Records are stored within a government-certified cloud solution overseen by the Agency's Office of the Chief Information Officer (OCIO) based in Washington, DC, Headquarters. The Agency's address is available on its website (www.nlrb.gov).

SYSTEM MANAGER(S):

Assistant General Counsel/Freedom of Information Act Officer, FOIA Branch, National Labor Relations Board. The Agency's address is available on its website (www.nlrb.gov).

AUTHORITY FOR MAINTENANCE OF THE SYSTEM:

5 U.S.C. 552; 44 U.S.C. 3101.

PURPOSE(S) OF THE SYSTEM:

To provide the public a single location to submit and track FOIA requests and administrative appeals filed with the NLRB; and permit the NLRB to: (1) carry out responsibilities under the FOIA, Privacy Act, and applicable executive orders; (2) collect data for quarterly and annual reporting requirements to the Department of Justice; and (3) manage litigation concerning such requests and appeals and internal FOIA administration activities. NLRB Freedom of Information Act Records (NLRB-37) may also be used to assist in evaluating Agency employee performance.

CATEGORIES OF INDIVIDUALS COVERED BY THE SYSTEM:

Individuals filing requests or administrative appeals under the FOIA; and current and former Agency employees assigned to process FOIA requests and appeals.

CATEGORIES OF RECORDS IN THE SYSTEM:

A copy of each FOIA request received by the NLRB, which may include information relating to individual requesters, including: names, mailing addresses, email addresses, phone numbers, user names and passwords for registered users, and administrative appeals and agency responses that contain information about individuals. Records also include communications with requesters, internal FOIA administrative documents, notes or other related or supporting documentation, responsive records, Agency personnel assignments, and data measuring or related to the Agency's FOIA processing.

RECORDS SOURCE CATEGORIES:

Record source categories include the Agency's electronic case management system (NxGen), the Agency's email system, Agency employees processing of FOIA requests and providing information, FOIA requesters and appellants, and documents relating to the processing of a FOIA request.

ROUTINE USES OF RECORDS MAINTAINED IN THE SYSTEM, INCLUDING CATEGORIES OF USERS AND THE PURPOSE OF SUCH USES:

Records may be disclosed:

1. to a federal, state, or local agency (including a bar association or other legal licensing authority), charged with the responsibility for investigating, defending, or pursuing violations of law or rule (civil, criminal, or regulatory in nature), in any case in which there is an indication of a violation or potential violation of law or rule;

2. to another federal agency (a) with an interest in the record in connection with a referral of a FOIA request to that agency for its views or decision on disclosure, or (b) in order to obtain advice and recommendations concerning matters on which the agency has specialized experience or particular competence that may be useful to an agency in making required determinations under the FOIA;

3. in a federal, state, or local proceeding or hearing, which is administrative, judicial, or regulatory, in accordance with the procedures governing such disclosure and proceeding or hearing, including, but not limited to, National Labor Relations Board Rule 29 CFR 102.118, and such records are determined by the Agency to be arguably relevant to the litigation;

4. to a submitter of records or subject of a record in order to provide assistance to the NLRB in making a disclosure determination;

5. to the Agency's legal representative, including the Department of Justice and other outside counsel, where the Agency is a party in litigation or has an interest in litigation, including when any of the following is a party to litigation or has an interest in such litigation: (a) The Agency, or any component thereof; (b) any employee of the Agency in their official capacity; (c) any employee of the Agency in their individual capacity, where the Department of Justice has agreed or is considering a request to represent the employee; or (d) the United States, where the Agency determines that litigation is likely to affect the Agency or any of its components;

6. to individuals who need the information in connection with the processing of an internal Agency grievance;

7. to an arbitrator to resolve disputes under a negotiated Agency grievance arbitration procedure;

8. to officials of labor organizations recognized under 5 U.S.C., chapter 71, when disclosure is not prohibited by law, and the data is normally maintained by the Agency in the regular course of business and is necessary for a full and proper discussion, understanding, and negotiation of subjects within the scope of collective bargaining. The foregoing shall have the identical meaning as 5 U.S.C. 7114(b)(4);

9. to a member of Congress or to a congressional staff member in response to an inquiry of the congressional office made at the request of the constituent about whom the records are maintained;

10. to the following federal agencies: (a) the Office of Management and Budget in order to obtain advice regarding the Agency's obligations under the Privacy Act, or to assist with the Agency's budget requests; (b) the Department of Justice in order to obtain advice regarding the Agency's obligations under the Freedom of Information Act; or (c) NARA, in records management inspections conducted under the authority of 44 U.S.C. 2904 and 2906;

11. to contractors and other federal agencies, for the purpose of assisting the Agency in further development and continuing maintenance of electronic case tracking systems, or for assisting the Agency with electronic document management for purposes of responding to discovery, FOIA requests, or congressional inquiries;

12. to NARA, pursuant to records management inspections being conducted under the authority of 44 U.S.C. 2904 and 2906, as well as to NARA's Office of Government Information Services (OGIS), to the extent necessary to fulfill its responsibilities in 5 U.S.C. 552(h), to review administrative agency policies, procedures and compliance with the FOIA, and to facilitate OGIS' offering of mediation services to resolve disputes between persons making FOIA requests and administrative agencies;

13. to appropriate agencies, entities, and persons when (1) the National Labor Relations Board suspects or has confirmed that there has been a breach of the system of records; (2) the National Labor Relations Board has determined that as a result of the suspected or confirmed breach there is a risk of harm to individuals, the National Labor Relations Board (including its information systems, programs, and operations), the federal government, or national security; and (3) the disclosure made to such agencies, entities, and persons is reasonably necessary to assist in connection with the National Labor Relations Board's efforts to respond to the suspected or confirmed breach or to prevent, minimize, or remedy such harm; and

14. to another federal agency or federal entity, when the National Labor Relations Board determines that information from this system of records is reasonably necessary to assist the recipient agency or entity in (1) responding to a suspected or confirmed breach or (2) preventing, minimizing, or remedying the risk of harm to individuals, the recipient agency or entity (including its information systems, programs, and operations), the federal government, or national security, resulting from a suspected or confirmed breach.

POLICIES AND PRACTICES FOR STORAGE OF RECORDS:

Records are stored in electronic media.

POLICIES AND PRACTICES FOR RETRIEVAL OF RECORDS:

Requests are retrieved from the system by numerous data elements and key word searches, including name, agency, date, subject, FOIA tracking number, and other information retrievable with full-text searching capability.

POLICIES AND PRACTICES FOR RETENTION AND DISPOSAL OF RECORDS:

Records are retained and disposed of in accordance with General Records Schedule 4.2, Item 020, which provides for destruction six years after final agency action, but longer retention is authorized if required for business use.

ADMINISTRATIVE, TECHNICAL, AND PHYSICAL SAFEGUARDS:

Electronic system-based access controls are in place to prevent data misuse. Access to electronic information is controlled by administrators who determine users' authorized access based on each user's office and position within the office. Access criteria, procedures, controls, and responsibilities are documented and consistent with the policies stated in applicable guidance from the NLRB Office of the Chief Information Officer. All network users are also warned at the time of each network login that the system is for use by authorized users only and that unauthorized or improper use is a violation of law.

RECORDS ACCESS PROCEDURES:

Individuals seeking to gain access to their own records in this system should contact the System Manager in accordance with the procedures set forth in 29 CFR 102.119(b)-(c). Any options for remote/electronic Privacy Act record access requests may also be found on the Agency's website (https://www.nlrb.gov/privacy).

CONTESTING RECORDS PROCEDURE:

Individuals may request amendment of a record in this system pertaining to their own records by directing a request to the System Manager in accordance with the procedures set forth in 29 CFR 102.119(d). As that subsection explains, the requester must provide verification of identity as described in 29 CFR 102.119(e), and the request must set forth the specific amendment requested and the reason for the requested amendment.

NOTIFICATION PROCEDURES:

An individual may inquire as to whether this system contains a record pertaining to such individual by directing a request to the System Manager in accordance with the procedures set forth in 29 CFR 102.119(a).

EXEMPTIONS PROMULGATED FOR THE SYSTEM:

None.

HISTORY:

None.

Dated: Washington, DC, March 21, 2025.
By direction of the Board.
Roxanne L. Rothschild,
Executive Secretary.

[FR Doc. 2025-05136 Filed 3-25-25; 8:45 am]

BILLING CODE 7545-01-P